DEPARTMENT OF COMMERCE

National Oceanic and Atmospheric Administration

RIN 0648-XM31

Marine Mammals; File Nos. 13583 and 13599

AGENCY: National Marine Fisheries Service (NMFS), National Oceanic and Atmospheric Administration (NOAA), Commerce.

ACTION: Notice; issuance of permits.

SUMMARY: Notice is hereby given that following two entities have been issued permits to collect/receive/import/export protected species parts for scientific research purposes:

National Marine Mammal Laboratory (NMML, Dr. John Bengtson, Responsible Party), 7600 Sand Point Way NE, Seattle, WA 98115 (File No. 13583) and

National Ocean Service Marine Forensic Lab (NOS Lab, Julie Carter, Responsible Party), 219 Fort Johnson Road, Charleston, SC 29412 (File No. 13599).

ADDRESSES: The permit and related documents are available for review upon written request or by appointment in the following offices:

Permits, Conservation and Education Division, Office of Protected Resources, NMFS, 1315 East-West Highway, Room 13705, Silver Spring, MD 20910; phone (301)713-2289; fax (301)427-2521 (File Nos. 13583 and 13599);

Alaska Region, NMFS, P.O. Box 21668, Juneau, AK 99802-1668; phone (907)586-7221; fax (907)586-7249 (File No. 13583); and

Southeast Region, NMFS, 263 13th Avenue South, Saint Petersburg, Florida 33701; phone (727)824-5312; fax (727)824-5309 (File No. 13599).

FOR FURTHER INFORMATION CONTACT: Jennifer Skidmore or Kate Swails, (301)713-2289.

SUPPLEMENTARY INFORMATION: On September 11, 2008, notice was published in the Federal Register (73 FR 52829) that a request for scientific research permits had been submitted by the above-named organizations. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

File No. 13583: NMML has been issued a permit continuing the activities previously authorized under Permit No. 782-1694. This permit authorizes collection of cetacean and pinniped (except for walrus) specimens from dead animals, and for import, export, and possession of specimens taken legally worldwide. These samples may be archived, transported, shared, and analyzed by researchers in order to optimize the amount of biological information gained from each animal. No takes of live animals is authorized under this permit. There will be no non-target species taken incidentally under this permit because the permit would only cover collection, importation, exportation, and possession of samples from dead animals or live animals taken legally under other permits. This permit is valid for five years.

File No. 13599: The NOS Lab has been issued a permit authorizing the receipt, importation, exportation, transfer, archive, and analysis of marine mammal and endangered species parts. This permit includes all cetaceans, pinnipeds (except for walrus), sea turtles (in the water), smalltooth sawfish (Pristis pectinata), shortnose sturgeon (Acipenser brevirostrum) and white abalone (Haliotis sorenseni) under NMFS jurisdiction. No live animal takes or incidental harassment of animals would is authorized under this permit. Samples will be archived at the NOS Lab and used to support law enforcement actions, research studies (primarily genetics), and outreach education. This permit is valid for five years.

In compliance with the National Environmental Policy Act of 1969 (42 U.S.C. 4321 et seq.), a final determination has been made that the activities proposed are categorically excluded from the requirement to prepare an environmental assessment or environmental impact statement.

Issuance of these permits, as required by the ESA, was based on a finding that such permits: (1) were applied for in good faith; (2) will not operate to the disadvantage of such endangered species; and (3) are consistent with the purposes and policies set forth in section 2 of the ESA.

Dated: December 16, 2008.
P. Michael Payne,
Chief, Permits, Conservation and Education Division, Office of Protected Resources, National Marine Fisheries Service.

[FR Doc. E8-30369 Filed 12-22-08; 8:45 am]

BILLING CODE 3510-22-S